DEPARTMENT OF DEFENSE

Office of the Secretary

[Docket ID DoD-2012-OS-0065]

Proposed Collection; Comment Request

AGENCY: Washington Headquarters Services, DoD.

ACTION: Notice.

In compliance with Section 3506(c)(2)(A) of the Paperwork Reduction Act of 1995, the Washington Headquarters Services announces a proposed new public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by August 13, 2012.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to Washington Headquarters Services, Human Resources Directorate, ATTN: Jo-Anna Griffith, 4800 Mark Center Drive, Suite 03D08, Alexandria, VA 22350-3200, or call (571) 372-4034.

Title; Associated Form; and OMB Number: Confirmation of Request for Reasonable Accommodation; WHS Form 09; OMB Control Number 0704-TBD.

Needs and Uses: The information collection requirement is necessary to obtain and record requests for reasonable accommodation, with the intent to measure and ensure Agency compliance with Rehabilitation Act of 1973, Public Law 93-112; Rehabilitation Act Amendments of 1992, Public Law 102-569; Americans with Disabilities Act of 1990, Public Law 101-336; Americans with Disabilities Act Amendments Act of 2008, Public Law 110-325.

Affected Public: Individuals or households.

Annual Burden Hours: 5.

Number of Respondents: 20.

Responses per Respondent: 1.

Average Burden per Response: 15 minutes.

Frequency: On occasion.

SUPPLEMENTARY INFORMATION:

Summary of Information Collection

The completed form will document requests for reasonable accommodation(s) (regardless of type of accommodation) and the outcome of such requests. Respondents are employees of WHS serviced components or applicants for employment of WHS serviced components.

Dated: May 7, 2012.
Patricia L. Toppings,
OSD Federal Register Liaison Officer, Department of Defense.

[FR Doc. 2012-14567 Filed 6-13-12; 8:45 am]

BILLING CODE 5001-06-P